DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than September 8, 2009.

Interested persons are invited to submit written comments regarding the subject matter of the investigations to the Director, Division of Trade Adjustment Assistance, at the address shown below, not later than September 8, 2009.

The petitions filed in this case are available for inspection at the Division of Trade Adjustment Assistance, Employment and Training Administration, U.S. Department of Labor, Room N-5428, 200 Constitution Avenue, NW., Washington, DC 20210.

Signed at Washington, DC, this 12th day of August 2009.
Linda G. Poole,
Certifying Officer, Division of Trade Adjustment Assistance.

Appendix
[TAA petitions instituted between 6/1/09 and 6/5/09]
TA-W | Subject firm (petitioners) | Location | Date of institution | Date of petition
70811 | Rockwell Automation (Comp) | Manchester, NH | 06/01/09 | 05/28/09
70812 | Performances Fibers Operations, Inc. (Comp) | Salisbury, NC | 06/01/09 | 05/29/09
70813 | Sparton Electronics (Comp) | Jackson, MI | 06/01/09 | 05/19/09
70814 | Findlay Industries Inc. (Wkrs) | Dublin, VA | 06/01/09 | 05/27/09
70815 | Product Action (Wkrs) | Princeton, IN | 06/01/09 | 05/28/09
70816 | Callaway Golf Ball Operations, Inc. (Comp) | Chicopee, MA | 06/01/09 | 05/28/09
70817 | Hill Corporation (State) | Anaheim, CA | 06/01/09 | 05/28/09
70818 | Hendricks Furniture Group, Boyles Furniture, Classic Moving and Storage (Comp) | Conover, NC | 06/01/09 | 05/28/09
70819 | CA Inc. (State) | Lisle, IL | 06/01/09 | 05/27/09
70820 | Marshall Manufacturing Corp. (Comp) | Lewisburg, TN | 06/01/09 | 05/28/09
70821 | Standby Screw Machine, Inc (Wkrs) | Berea, OH | 06/01/09 | 05/28/09
70822 | Wagner Equipment Co. (comp) | Tyrone, NM | 06/01/09 | 05/27/09
70823 | Blount, Inc. (Comp) | Milwaukie, OR | 06/01/09 | 05/29/09
70824 | Bridgestone APM, Plant 1 (Wkrs) | Findlay, OH | 06/01/09 | 05/29/09
70825 | Vitec Group Communication (State) | Alameda, CA | 06/01/09 | 05/29/09
70826 | NASCOM Industries Inc (Wkrs) | Knama, WA | 06/01/09 | 05/27/09
70827 | FormTech Industries LLC (USW) | Minerva, OH | 06/01/09 | 05/29/09
70828 | Botech Industries LLC (Comp) | Hohenwald, TN | 06/01/09 | 05/26/09
70829 | Schnadig Corp (Wkrs) | Des Plaines, IL | 06/01/09 | 05/29/09
70830 | Eclipse Manufacturing Company (Comp) | Pikeville, TN | 06/01/09 | 05/21/09
70831 | A.W. Pratt, Inc. (Comp) | Glasgow, MT | 06/01/09 | 05/28/09
70832 | American Standard Brands (IUE) | Mansfield, OH | 06/01/09 | 06/01/09
70833 | Thomasville Furniture Industries (Comp) | Thomasville, NC | 06/01/09 | 05/29/09
70834 | Celerity, Inc. (Wkrs) | Austin, TX | 06/01/09 | 05/29/09
70835 | Faurecia Exhaust Systems, Inc. (Comp) | Troy, OH | 06/01/09 | 05/20/09
70836 | Anderson Products Inc. (Comp) | Worcester, MA | 06/01/09 | 06/01/09
70837 | Harco Manufacturing Group, LLC (Comp) | Moraine, OH | 06/01/09 | 05/27/09
70838 | The Berry Company LLC (Wkrs) | Dayton, OH | 06/01/09 | 06/01/09
70839 | Tele Atlas North America, Inc (Comp) | Lebanon, NH | 06/01/09 | 05/20/09
70840 | Thomasville Furniture Industries, Inc. #8 (Comp) | Hickory, NC | 06/01/09 | 05/29/09
70841 | Alliance Carolina Tool and Mold (wkrs) | Arden, NC | 06/01/09 | 05/29/09
70842 | Dometic Sanitation Corp (Wkrs) | Big Prairie, OH | 06/01/09 | 05/28/09
70843 | Abbot Building Restoration Co., Inc. (Wkrs) | Boston, MA | 06/01/09 | 05/29/09
70844 | Allied Barton Security (Wkrs) | El Paso, TX | 06/01/09 | 05/29/09
70845 | Thomasville Furniture Industries Inc, Plant 9 (Comp) | Hickory, NC | 06/01/09 | 05/29/09
70846 | Thomasville Furniture Industries (Comp) | Hickory, NC | 06/02/09 | 05/29/09
70847 | Intermountain Forest Technology Corp. (Wkrs) | Clancy, MT | 06/02/09 | 05/27/09
70848 | Spec-Temp (Wkrs) | Antwerp, OH | 06/02/09 | 05/29/09
70849 | Venta Airwasher LLC (Wkrs) | Titasca, IL | 06/02/09 | 05/28/09
70850 | PCC Airfoils LLC (Union) | Minerva, OH | 06/02/09 | 05/29/09
70851 | Kennametal Inc, Irwin Plant (Wkrs) | Irwin, PA | 06/02/09 | 05/28/09
70852 | Victaulic (Comp) | Leland, NC | 06/02/09 | 05/29/09
70853 | Parkdale Mills, Inc Plant #41 (Comp) | Gastonia, NC | 06/02/09 | 05/20/09
70854 | Daido Metal Bellefontaine, LLC (Wkrs) | Bellefontaine, OH | 06/02/09 | 06/02/09
70855 | Smurfit-Stone Container (AFLCIO) | Knoxville, TN | 06/02/09 | 06/01/09
70856 | IPSCO Tubulars, Inc. (Comp) | Camanche, IA | 06/02/09 | 05/28/09
70857 | DPWN Holdings (Rep) | Plantation, FL | 06/02/09 | 06/01/09
70858 | Excalibur Machine Company, Inc. (Comp) | Meadville, PA | 06/02/09 | 05/20/09
70859 | Custom Tool and Die (Wkrs) | Stevensville, MI | 06/02/09 | 05/18/09
70860 | Excalibur Machine Company, Inc.—Linesville (Comp) | Linesville, PA | 06/02/09 | 05/20/09
70861 | Parkdale America, LLC., Plant 29 (Comp) | Sanford, NC | 06/02/09 | 05/20/09
70862 | Toshiba America Business Solutions, Inc (State) | Irvine, CA | 06/02/09 | 05/29/09
70863 | Chevron Mining, Inc. (Comp) | Questa, NM | 06/02/09 | 05/29/09
70864 | Western/Scott Fetzer Company (Comp) | Avon Lake, OH | 06/02/09 | 05/31/09
70865 | San Antonio Express-News (Comp) | San Antonio, TX | 06/02/09 | 06/01/09
70866 | Davis-Standard, LLC (Comp) | Fulton, NY | 06/02/09 | 06/01/09
70867 | Convergys (Wkrs) | Cincinnati, OH | 06/02/09 | 05/28/09
70868 | Davis-Standard, LLC—Somerville (Comp) | Somerville, NJ | 06/02/09 | 06/01/09
70869 | Paragon Molding Limited (Wkrs) | West Milton, OH | 06/02/09 | 05/31/09
70870 | H. W. Wilson Company (State) | Bronx, NY | 06/02/09 | 05/29/09
70871 | Diamond Homes/Solitaire Holdings (Wkrs) | Waurika, OK | 06/02/09 | 05/29/09
70872 | Mars Petcare (Comp) | McKenzie, TN | 06/02/09 | 05/26/09
70873 | Group Dekko, Inc. (Comp) | Murray, IA | 06/02/09 | 05/20/09
70874 | Advance Industrial Machinery, Inc. (Comp) | Hickory, NC | 06/02/09 | 05/30/09
70875 | Sappi Fine Paper N.A. (USW) | Westbrook, ME | 06/02/09 | 06/01/09
70876 | Chromalox (Wkrs) | Pittsburgh, PA | 06/02/09 | 05/28/09
70877 | Schmidt-Hardy Chevrolet (Wkrs) | Cuba, MO | 06/02/09 | 05/23/09
70878 | Wachovia (Comp) | Charlotte, NC | 06/02/09 | 06/02/09
70879 | Presto Products (State) | Weyauwega, WI | 06/02/09 | 06/02/09
70880 | Roadrunner Transportation Services (Wkrs) | Cudahes, WI | 06/02/09 | 06/02/09
70881 | Superior Fibers—Shawnee (GMP) | Shawnee, OH | 06/03/09 | 06/02/09
70882 | Diversified Systems, Inc (Wkrs) | Indianapolis, IN | 06/03/09 | 06/02/09
70883 | Agilent Technologies (Comp) | Liberty Lake, WA | 06/03/09 | 06/02/09
70884 | Glacier Line Logging, Inc. (Comp) | Kalispell, MT | 06/03/09 | 05/29/09
70885 | Neff-Perkins Company (Union) | Perry, OH | 06/03/09 | 05/28/09
70886 | Johnson Bros.—West Salem Inc. (Comp) | West Salem, OH | 06/03/09 | 06/02/09
70887 | Berryville Graphics (Wkrs) | Berryville, VA | 06/03/09 | 06/02/09
70888 | Camcar LLC—Rochester Operation (Comp) | Rochester, IN | 06/03/09 | 06/02/09
70889 | Hesco Parts LLC (Comp) | Louisville, KY | 06/03/09 | 05/28/09
70890 | UAW Local #235 (Wkrs) | Hamtramck, MI | 06/03/09 | 06/02/09
70891 | Lapp Insulators LLC (Comp) | Sandersville, GA | 06/03/09 | 06/02/09
70892 | Eastern Screw (Wkrs) | Johnston, RI | 06/03/09 | 06/01/08
70893 | Alpha Sintered Metals Inc (Comp) | Ridgway, PA | 06/03/09 | 06/01/09
70894 | Marathon Equipment Company (Wkrs) | Clearfield, PA | 06/03/09 | 06/01/09
70895 | North American Refractories Company (Comp) | White Cloud, MI | 06/03/09 | 05/29/09
70896 | Neenah Paper (comp) | Neenah, WI | 06/03/09 | 05/27/09
70897 | Nortel Networks (Wkrs) | Richardson, TX | 06/03/09 | 05/21/09
70898 | Ram Tool (Wkrs) | Conneaut Lake, PA | 06/03/09 | 06/02/09
70899 | Agfa HealthCare, Inc. (Comp) | Hartland, WI | 06/03/09 | 06/01/09
70900 | Acushnet Company (Comp) | Carlsbad, CA | 06/03/09 | 06/01/09
70901 | Dana Classic Fragrances, Inc. (Comp) | Deerfield Beach, FL | 06/03/09 | 06/01/09
70902 | Tech Molded Plastics, LP (Comp) | Meadville, PA | 06/03/09 | 05/27/09
70903 | Severstal Warren, Inc (USWA) | Warren, OH | 06/03/09 | 06/01/09
70904 | PHD:US (Wkrs) | New York, NY | 06/03/09 | 05/29/09
70905 | T and S Hardwoods (Wkrs) | Sylva, NC | 06/03/09 | 05/18/09
70906 | Republic Door (Other) | McKenzie, TN | 06/03/09 | 05/20/09
70907 | TRW (Wkrs) | Mt. Vernon, OH | 06/03/09 | 06/02/09
70908 | Rohm and Haas Co/DOW Chemical (Wkrs) | West Alexandria, OH | 06/03/09 | 05/19/09
70909 | Martinsville Emulsion Products (Comp) | Ridgeway, VA | 06/03/09 | 05/25/09
70910 | Sypris Technologies (Union) | Kenton, OH | 06/03/09 | 05/18/09
70911 | R. H. Donnelley, Inc. (State) | Dunmore, PA | 06/03/09 | 05/18/09
70912 | Beck Manufacturing (Comp) | Greencastle, PA | 06/03/09 | 05/20/09
70913 | Automatic Systems, Inc. (Comp) | Brighton, MI | 06/03/09 | 05/22/09
70914 | Gilmour Manufacturing Company (Comp) | Louisville, KY | 06/03/09 | 06/01/09
70915 | Gardner Bender (Comp) | Milwaukee, WI | 06/03/09 | 06/01/09
70916 | Agilent Technologies, Digital Test Division (Comp) | Santa Rosa, CA | 06/03/09 | 06/01/09
70917 | Agilent Technologies, Network Solutions Division (Comp) | Colorado Springs, CO | 06/03/09 | 06/01/09
70918 | Agilent Technologies, Systems Product Division (Comp) | Loveland, NJ | 06/03/09 | 06/01/09
70919 | The Stride Rite Corporation (Wkrs) | Lexington, MA | 06/03/09 | 06/01/09
70920 | TCS Design (Wkrs) | Hickory, NC | 06/03/09 | 06/01/09
70921 | Golden State Box Factory (State) | San Diego, CA | 06/03/09 | 05/11/09
70922 | Hewes Marine Company (Comp) | Colville, WA | 06/03/09 | 05/27/09
70923 | Acme Architectural Products (Wkrs) | Brooklyn, NY | 06/03/09 | 06/01/09
70924 | Dawn Food Products, Inc. (Comp) | Osslan, IN | 06/03/09 | 05/06/09
70925 | Troy Laminating and Coating, Inc. (Wkrs) | Troy, OH | 06/03/09 | 06/01/09
70926 | BLC Consulting Service, LLC (Comp) | New London, CT | 06/03/09 | 05/26/09
70927 | Ingersoll-Rand, Security Technologies (Comp) | Colorado Springs, CO | 06/03/09 | 06/01/09
70928 | TRG Customer Solutions (Wkrs) | Jacksonville, FL | 06/03/09 | 05/27/09
70929 | International Polarizer, A Company of PPG Industries, Inc. (Comp) | Marlborough, MA | 06/03/09 | 05/29/09
70930 | Sandvik Materials Technology (Union) | Scranton, PA | 06/03/09 | 05/26/09
70931 | Castec, Inc. (Wkrs) | North Hollywood, CA | 06/03/09 | 05/18/09
70932 | PMG Pennsylvania Corporation (Wkrs) | Philipsburg, PA | 06/03/09 | 06/01/09
70933 | California Newspaper Partnership (Comp) | Novato, CA | 06/03/09 | 06/01/09
70934 | Airtex Products, LP (Wkrs) | Fairfield, IL | 06/03/09 | 06/01/09
70935 | Regal Beloit Manufacturing (Comp) | Lebanon, MO | 06/03/09 | 05/28/09
70936 | ITW Ark-Les (Comp) | Stoughton, MA | 06/03/09 | 06/01/09
70937 | Viscatec (Wkrs) | Morganton, NC | 06/03/09 | 05/29/09
70938 | Imperial Carbide (Wkrs) | Meadville, PA | 06/03/09 | 06/01/09
70939 | Super Value, Inc (Comp) | Pleasant Prairie, WI | 06/04/09 | 06/03/09
70940 | Ray Lewis and Son (Wkrs) | Marysville, OH | 06/04/09 | 05/18/09
70941 | Performance Powder Coating LLC (Comp) | Kokomo, IN | 06/04/09 | 06/03/09
70942 | Precise Engineering (State) | Lowell, MI | 06/04/09 | 05/26/09
70943 | Kenco Komatsu Reman (Comp) | Lexington, KY | 06/04/09 | 06/03/09
70944 | Enterprise Automotive Systems, Inc. (comp) | Warren, MI | 06/04/09 | 05/18/09
70945 | GMAC Insurance (Wkrs) | Winston Salem, NC | 06/04/09 | 06/03/09
70946 | MTD Products Inc (Other) | Brownsville, TN | 06/04/09 | 05/26/09
70947 | Chrysler LLC, National Customer Service, Hamlin Road Center (UAW) | Rochester Hills, MI | 06/04/09 | 05/27/09
70948 | Chrysler LLC, Plymouth Road Office Complex (UAW) | Detroit, MI | 06/04/09 | 05/27/09
70949 | Chrysler LLC, MOPAR Parts Distribution Center (UAW) | Center Line, MI | 06/04/09 | 05/27/09
70950 | Chrysler LLC, Chelsea Proving Grounds (Union) | Chelsea, MI | 06/04/09 | 05/26/09
70951 | AT&T Yellow Pages (State) | Troy, MI | 06/04/09 | 05/23/09
70952 | Paul Marino Gage Inc. (Wkrs) | Warren, MI | 06/04/09 | 05/01/09
70953 | ABB, Inc. (Comp) | Muskegon, MI | 06/04/09 | 05/29/09
70954 | SNC Manufacturing Company, Inc (Wkrs) | Oshkosh, WI | 06/04/09 | 05/27/09
70955 | B and B Engineering Corp (Wkrs) | Medford, WI | 06/04/09 | 06/02/09
70956 | Snorkel International (Wkrs) | Elwood, KS | 06/04/09 | 06/02/09
70957 | Focus Products Group, LLC (Other) | St. Louis, MO | 06/04/09 | 06/02/09
70958 | Liang's Sewing (Wkrs) | San Francisco, CA | 06/04/09 | 05/19/09
70959 | Alpha Technology Corporation (UAW) | Howell, MI | 06/04/09 | 06/01/09
70960 | GE Consumer and Industrial Lighting (Comp) | Willoughby, OH | 06/04/09 | 05/21/09
70961 | LSI Corporation (Wkrs) | Allentown, PA | 06/04/09 | 05/29/09
70962 | BG Labs (Comp) | Binghamton, NY | 06/04/09 | 05/26/09
70963 | Delaware Valley Financial Services (Wkrs) | Berwyn, PA | 06/04/09 | 05/19/09
70964 | Yorktowne Cabinetry (Wkrs) | Mifflinburg, PA | 06/04/09 | 05/19/09
70965 | Heatllator Inc (State) | Mt. Pleasant, IA | 06/04/09 | 06/03/09
70966 | Gerdau Ameristeel (USW) | Wilton, IA | 06/04/09 | 05/22/09
70967 | Gerstenslager (Comp) | Wooster, OH | 06/04/09 | 05/18/09
70968 | Trinity Rail Group LLC (Wkrs) | Cartersville, GA | 06/04/09 | 05/19/09
70969 | GrafTech International Holdings Inc. (USW) | Clarksburg, WV | 06/04/09 | 06/04/09
70970 | General Dynamics Itonix Corporation (Comp) | Spokane Valley, WA | 06/04/09 | 05/18/09
70971 | Sumitomo Electric Wiring Systems Inc (Comp) | Lebanon, OH | 06/04/09 | 05/18/09
70972 | Amphenol Backplane Systems (Comp) | Nashua, NH | 06/04/09 | 06/01/09
70973 | Manitowoc Tool and Machine LLC (State) | Manitowoc, WI | 06/04/09 | 05/21/09
70974 | Walry Industries Inc (State) | Sheboygan, WI | 06/04/09 | 05/21/09
70975 | B&C Corporation (JR Wheel) (Wkrs) | Norton, OH | 06/04/09 | 06/02/09
70976 | Job Works (Wkrs) | Kendallville, IN | 06/04/09 | 06/02/09
70977 | Top Notch, Inc. (State) | Fort Payne, AL | 06/04/09 | 06/02/09
70978 | Pace Industries LLC (Comp) | Auburn, AL | 06/04/09 | 06/02/09
70979 | Reed Business Information (Wkrs) | Greensboro, IL | 06/04/09 | 05/30/09
70980 | Sumitomo Electric Wiring Systems, Inc. (Comp) | Lebanon, OH | 06/04/09 | 05/18/09
70981 | Amphenol Printed Circuits, Inc (Comp) | Nashua, NH | 06/04/09 | 06/01/09
70982 | Rexam Beverage Can North America (Comp) | Chicago, IL | 06/05/09 | 06/03/09
70983 | Washington Mutual (State) | Jacksonville, FL | 06/05/09 | 06/02/09
70984 | Keihin IPT Manufacturing, Inc. (Comp) | Greenfield, IN | 06/05/09 | 06/02/09
70985 | Computer Aid, Inc. (Wkrs) | Alltentown, PA | 06/05/09 | 05/09/09
70986 | Bally Sportswear Inc. (Wkrs) | New York, NY | 06/05/09 | 06/02/09
70987 | Quad City Die Casting Inc (Comp) | Moline, IL | 06/05/09 | 06/02/09
70988 | Delphi (Flint East) (Wkrs) | Flint, MI | 06/05/09 | 06/04/09
70989 | Klaussner Furniture Industries, Inc. (Other) | Asheboro, NC | 06/05/09 | 06/02/09
70990 | Veritude Fidelity (Wkrs) | West Lake, TX | 06/05/09 | 05/28/09
70991 | Accutherm, Inc. (Comp) | Monroe City, MO | 06/05/09 | 06/03/09
70992 | United Machine Works, Inc (Comp) | Greenville, NC | 06/05/09 | 05/26/09
70993 | Diebold (IUECWA) | Hebron, OH | 06/05/09 | 06/04/09
70994 | Hach (Wkrs) | Grants Pass, OR | 06/05/09 | 06/04/09
70995 | The Northwest Company (International), Inc. (Comp) | Anchorage, AK | 06/05/09 | 06/03/09
70996 | Voith Paper Fabrics (State) | Neenah, WI | 06/05/09 | 05/27/09
70997 | Ross Mould, inc (Union) | Washington, PA | 06/05/09 | 05/29/09
70998 | Kelhin IPT Manufacturing, Inc. (Comp) | Greenfield, IN | 06/05/09 | 06/02/09
70999 | Moody's Analytics (Wkrs) | South Bend, IN | 06/05/09 | 06/04/09
71000 | Sypris Technologies (Comp) | Marion, OH | 06/05/09 | 06/04/09
71001 | Kelhin IPT Management, Inc. (Comp) | Greenfield, IN | 06/05/09 | 06/02/09
71002 | VF Services, Inc. (Wkrs) | Greensboro, NC | 06/05/09 | 06/04/09
71003 | Endless Summer, Inc. (Wkrs) | Springfield, MO | 06/05/09 | 05/20/09
71004 | Radisys Corporation (97124) | Hillsboro, OR | 06/05/09 | 06/01/09
71005 | Vision Plastics (Comp) | San Diego, CA | 06/05/09 | 06/03/09
71006 | Endless Summer, Inc. (Wkrs) | Springfield, MO | 06/05/09 | 05/20/09
71007 | Federal Marine Terminals, Inc. (Comp) | Eastport, ME | 06/05/09 | 06/02/09
71008 | API Dalevan (UAW) | East Aurora, NY | 06/05/09 | 06/04/09
71009 | Experian (State) | Lincoln, NE | 06/05/09 | 06/03/09
71010 | CWR Manufacturing Corporation (Comp) | East Syracuse, NY | 06/05/09 | 06/04/09
71011 | Cadon Acquisitions, LLC (Comp) | Wyandotte, MI | 06/05/09 | 06/03/09
71012 | Vanity Fair Brands Dye Finish Facility (Comp) | Monroeville, AL | 06/05/09 | 06/04/09
71013 | Mincom, Inc. (Wkrs) | Greenwood Village, CO | 06/05/09 | 06/01/09
71014 | Jeld-Wen-Hawkins Window Division (Wkrs) | Hawkins, WI | 06/05/09 | 05/21/09
71015 | United Auto Workers Union (Comp) | Fenton, MO | 06/05/09 | 06/03/09
71016 | Principal Manufacturing Corporation (Comp) | Broadview, IL | 06/05/09 | 06/03/09
71017 | Diversified Textile Machinery Corporation (Comp) | Kings Mountain, NC | 06/05/09 | 06/04/09
71018 | The Nielsen Company (Wkrs) | Green Bay, WI | 06/05/09 | 05/21/09
71019 | Mincom. Inc. (Wkrs) | Greenwood Village, CO | 06/05/09 | 06/01/09
71020 | Vishay Sprague, Inc. (Comp) | Grafton, WI | 06/05/09 | 05/18/09
71021 | Martinrea Industries, Inc. (Comp) | Reed City, MI | 06/05/09 | 06/04/09
71022 | Sanyo Manufacturing Corporation (State) | Forrest City, AR | 06/05/09 | 06/04/09
71023 | ArcelorMittal Cleveland, Inc. (Wkrs) | Cleveland, OH | 06/05/09 | 06/04/09
71024 | Idaho Ethanol Processing, LLC (Comp) | Caldwell, ID | 06/05/09 | 06/02/09
71025 | Canon USA, Inc. (Wkrs) | Boise, ID | 06/05/09 | 06/02/09
71026 | Edscha Roof Systems (Comp) | Pontiac, MI | 06/05/09 | 06/03/09
71027 | Progress Tank (State) | Arthur, IL | 06/05/09 | 06/02/09
71028 | Blount, Inc. (Comp) | Milwaukie, OR | 06/05/09 | 06/04/09
71029 | Richline Group, Inc. (Wkrs) | Mount Vernon, NY | 06/05/09 | 06/04/09
71030 | Kenco Logistic Services, LLC (Comp) | Lyndhurst, VA | 06/05/09 | 06/04/09

[FR Doc. E9-20446 Filed 8-25-09; 8:45 am]

BILLING CODE 4510-FN-P